DEPARTMENT OF HEALTH AND HUMAN SERVICES

Centers for Medicare and Medicaid Services

[Document Identifier: CMS-10185]

Emergency Clearance: Public Information Collection Requirements Submitted to the Office of Management and Budget (OMB)

AGENCY: Centers for Medicare and Medicaid Services.

In compliance with the requirement of section 3506(c)(2)(A) of the Paperwork Reduction Act of 1995, the Centers for Medicare and Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR part 1320. This is necessary to ensure compliance with an initiative of the Administration. CMS does not have sufficient time to complete the normal PRA clearance process. We request this Paperwork Reduction Act clearance under an emergency approval process to meet the statutorily-mandated reporting requirement under the Medicare Prescription Drug, Improvement, and Modernization Act of 2003 (MMA) and to accommodate the operational schedule for the bidding process for prospective and renewing Part D Sponsors. In order to uphold the MMA reporting requirement in conjunction with the bid deadline for contract year 2007, key preceding events must occur. If these events do not occur, prospective and renewing Part D Sponsors will be unable to adjust their bids to reflect compliance with these reporting requirements. Inaccuracies in Part D bids will cause many adverse consequences to Part D Sponsors, their enrolled Medicare beneficiaries, and CMS.

1. Type of Information Collection Request: New Collection; Title of Information Collection: Medicare Part D Reporting Requirements; Use: Data collected via Medicare Part D Reporting Requirements will be an integral resource for oversight, monitoring, compliance and auditing activities necessary to ensure quality provision of the Medicare Prescription Drug Benefit to beneficiaries. Data will be validated, analyzed, and utilized for trend reporting by CMS. If outliers or other data anomalies are detected, CMS will work in collaboration with other CMS divisions for follow-up and resolution. Form Number: CMS-10185 (OMB #0938-New); Frequency: Reporting: Quarterly and Semi-annually; Affected Public: Business or other for-profit; Number of Respondents: 3,203; Total Annual Responses: 12,812; Total Annual Hours: 102,496.

CMS is requesting OMB review and approval of these collections by April 14, 2006, with a 180-day approval period. Written comments and recommendations will be considered from the public if received by the individuals designated below by April 3, 2006.

To obtain copies of the supporting statement and any related forms for the proposed paperwork collections referenced above, access CMS' Web site address at http://www.cms.hhs.gov/PaperworkReductionActof1995/ or e-mail your request, including your address, phone number, OMB number, and CMS document identifier, to Paperwork@cms.hhs.gov, or call the Reports Clearance Office on (410) 786-1326.

Interested persons are invited to send comments regarding the burden or any other aspect of these collections of information requirements. However, as noted above, comments on these information collection and recordkeeping requirements must be mailed to the designees referenced below by April 14, 2006:

Centers for Medicare and Medicaid Services, Office of Strategic Operations and Regulatory Affairs, Room C4-26-05, 7500 Security Boulevard, Baltimore, MD 21244-1850, Attn: Bonnie L Harkless,

and,

OMB Human Resources and Housing Branch, Attention: Carolyn Lovett, New Executive Office Building, Room 10235, Washington, DC 20503.

Dated: February 23, 2006.
Michelle Shortt,
Director, Regulations Development Group, Office of Strategic Operations and Regulatory Affairs.

[FR Doc. 06-1921 Filed 3-2-06; 8:45 am]

BILLING CODE 4120-01-P